DEPARTMENT OF HEALTH AND HUMAN SERVICES

Administration for Children and Families

Submission for OMB Review; Voluntary Acknowledgment of Paternity and Required Data Elements for Paternity Establishment Affidavits (OMB #0970-0171)

AGENCY: Office of Child Support Enforcement, Administration for Children and Families, HHS.

ACTION: Request for public comment.

SUMMARY: The Office of Child Support Enforcement (OCSE), Administration for Children and Families (ACF), U.S. Department of Health and Human Services, is requesting a 3-year extension of the Voluntary Acknowledgment of Paternity and Required Data Elements for Paternity Establishment Affidavits (OMB #0970-0171). There are no changes requested to the form, but burden estimates have been adjusted.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: Section 466(a)(5)(C) of the Social Security Act requires states to enact laws ensuring a simple civil process for voluntarily acknowledging paternity via an affidavit. The development and use of an affidavit for the voluntary acknowledgment of paternity would include the minimum requirements of the affidavit specified by the Secretary of Health and Human Services under section 452(a)(7) of the Social Security Act and give full faith and credit to such an affidavit signed in any other state according to its procedures. The state must provide that, before a mother and putative father can sign a voluntary acknowledgement of paternity, the mother and putative father must be given notice, orally and in writing, of the alternatives to, the legal consequences of, and the rights (including any rights, if one parent is a minor, due to minority status) and responsibilities of acknowledging paternity. The affidavits will be used by hospitals, birth record agencies, and other entities participating in the voluntary paternity establishment program to collect information from the parents of nonmarital children.

Respondents: The parents of nonmarital children, state and tribal agencies operating child support programs under Title IV-D of the Social Security Act, hospitals, birth record agencies, and other entities participating in the voluntary paternity establishment program.

Annual Burden Estimates

Since the previous approval of this information collection in 2017, there have been changes to the level of burden estimated due to an increase in the estimated number of partners involved in the voluntary paternity acknowledgment program by about 87,000 entities, and a change to the method of calculating the Paternity Acknowledgement Process. The current calculation is a more accurate method, using the number of nonmarital births (rather than the previously used universe of possible entities that could provide the service) and results in a decrease in estimated burden for this activity. Finally, burden estimates were updated from the initial Federal Register Notice related to this information collection (85 FR 47216) to correct a typo (no impact on overall burden estimates) and to use more current data (FY19 versus FY18) to calculate the burden for the Paternity Acknowledgement Process.

Instrument | Annual number of respondents | Annual number of responses per respondent | Average annual burden hours per response | Annual burden hours
Training | 134,685 | 1 | 1 | 134,685
Paternity Acknowledgment Process | 1,433,606 | 1 | 0.17 | 243,713
Data Elements | 54 | 1 | 1 | 54
Ordering Brochures | 2,693,693 | 1 | .08 | 215,495

Estimated Total Annual Burden Hours: 593,947.

Authority: 42 U.S.C. 666(a)(5)(C) and 652(a)(7).

Mary B. Jones,
ACF/OPRE Certifying Officer.

[FR Doc. 2020-25772 Filed 11-20-20; 8:45 am]

BILLING CODE 4184-41-P